INTERNATIONAL TRADE COMMISSION

[Investigation No. 337-TA-1378]

Certain Organic Light-Emitting Diode Display Modules and Components Thereof; Notice of a Commission Determination To Grant a Joint Motion To Terminate the Investigation in Its Entirety Based on Settlement; Termination of the Investigation

AGENCY: U.S. International Trade Commission.

ACTION: Notice.

SUMMARY: Notice is hereby given that the U.S. International Trade Commission (“Commission”) has determined to grant a joint motion to terminate the investigation in its entirety based on settlement. The investigation is hereby terminated.

FOR FURTHER INFORMATION CONTACT: Namo Kim, Esq., Office of the General Counsel, U.S. International Trade Commission, 500 E Street SW, Washington, DC 20436, telephone (202) 205-3459. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on December 6, 2023, based on a complaint filed by Samsung Display Company, Ltd. of the Republic of Korea (“SDC”). 88 FR 84829 (Dec. 6, 2023). The complaint, as supplemented, alleges violations of section 337 of the Tariff Act of 1930, as amended (19 U.S.C. 1337) (“section 337”), in the importation into the United States, or in the sale of certain organic light-emitting diode display modules and components thereof by reason of misappropriation of trade secrets, the threat or effect of which is to destroy or substantially injure a domestic industry (“DI”) or to prevent the establishment of an industry in the United States. Id. The Commission's notice of investigation named the following as respondents: BOE Technology Group Co., Ltd. of Beijing, China; Mianyang BOE Optoelectronics Technology Co., Ltd. of Mianyang, China; Ordos Yuansheng Optoelectronics Co., Ltd. of Inner Mongolia Autonomous Region, China; Chengdu BOE Optoelectronics Technology Co., Ltd. of Chengdu, China; Chongqing BOE Optoelectronics Technology Co., Ltd. of Chongqing, China; Wuhan BOE Optoelectronics Technology Co., Ltd. of Wuhan, China; BMOT f/k/a Kunming BOE Display Technology of Yunnan Dianzhong New Area, China; and BOE Technology America Inc. of Santa Clara, California (collectively, “Respondents”). Id. The Office of Unfair Import Investigations (“OUII”) is participating in the investigation. Id.

On June 17, 2025, the Commission amended the complaint and notice of investigation to reflect the change in the name of respondent BMOT to Yunnan Invensight Optoelectronics Technology Co., Ltd. Order No. 63 (May 27, 2025); unreviewed by Notice (June 17, 2025).

On October 23, 2024, the ALJ granted in part SDC's motion in limine 1, precluding Respondents from introducing any argument or evidence that the manufacturing processes for Respondents' micro-OLED products materially differ from their main OLED lines. That same day, the ALJ also granted in part SDC's motion for sanctions based on spoliation of evidence, imposing certain non-monetary sanctions against Respondents (collectively, “the ALJ's Sanctions Orders”).

On July 11, 2025, the ALJ issued the FID finding a violation of section 337. Specifically, the FID found that Respondents misappropriated the asserted trade secrets under the category of TS I, TS II, TS IV, and TS VII, but that Respondents did not misappropriate the asserted trade secret under the category TS III. The FID also found that the statute of limitations provision in the Defense Trade Secret Act, 35 U.S.C. 1836(d), (“DTSA SOL”) is inapplicable to section 337 investigations and, even if applicable, Respondents failed to show that the DTSA SOL would time-bar SDC's claims of trade secrets misappropriation. Lastly, the FID found that a DI exists, and that the threat or effect of Respondents' trade secrets misappropriation is to substantially injure that DI or to prevent the establishment of such an industry in the United States.

On September 11, 2025, the Commission issued a notice determining to review the FID in part and requesting written submissions on the issues under review, and on remedy, the public interest, and bonding. 90 FR 45959 (Sept. 24, 2025). Specifically, the Commission determined to review (1) the ALJ's Sanctions Orders, (2) the FID's findings with respect to the applicability of the DTSA SOL, and (3) the FID's findings with respect to the existence of a DI and injury or threat of injury thereto and the prevention of the establishment of such an industry in the United States. The Commission determined not to review the remainder of the FID.

On November 17, 2025, SDC and Respondents filed a joint motion to stay and terminate the investigation based on settlement pursuant to Commission Rule 210.21(b), 19 CFR 210.21(b). The motion included as an attachment a confidential settlement agreement. The motion also stated that there are no other agreements, written or oral, express or implied, between the parties, and that it is in the interest of the public and administrative economy to grant the motion.

On November 25, 2025, SDC and Respondents filed a revised joint motion. The revised motion includes as attachments the same confidential settlement agreement included with the earlier filed motion on November 17, 2025, as well as a redacted public version of the settlement agreement. The revised motion likewise states that there are no other agreements, written or oral, express or implied, between the parties, and that it is in the interest of the public and administrative economy to grant the motion.

On November 28, 2025, OUII filed its response supporting the joint motion to terminate the investigation, as revised. OUII states that the settlement agreement appears to fully resolve the dispute between SDC and Respondents concerning the subject matter of this investigation, and the motion complies with the requirements of Commission Rule 210.21(b), 19 CFR 210.21(b). OUII also states that it is not aware of any information that terminating this investigation would be contrary to the public interest, and “[t]he public interest generally favors termination of an investigation when it will avoid needless litigation and conserve public and private resources,” as is the case here. OUII response at 5.

Having reviewed the record of the investigation, including the FID and the parties' submissions, the Commission has determined to grant the joint motion to terminate the investigation based on settlement. The Commission has determined to take no position with respect to the FID's findings under review. See Beloit Corp. v. Valmet Oy, 742 F.2d 1421, 1423 (Fed. Cir. 1984). The investigation is hereby terminated in its entirety.

The Commission vote for this determination took place on January 5, 2026.

The authority for the Commission's determination is contained in section 337 of the Tariff Act of 1930, as amended (19 U.S.C. 1337), and in Part 210 of the Commission's Rules of Practice and Procedure (19 CFR part 210).

By order of the Commission.
Issued: January 5, 2026.
Susan Orndoff,
Supervisory Attorney.

[FR Doc. 2026-00099 Filed 1-7-26; 8:45 am]

BILLING CODE 7020-02-P